DEPARTMENT OF DEFENSE

Department of the Air Force

Privacy Act of 1974; System of Records

AGENCY: Department of the Air Force, DOD.

ACTION: Notice to Add a System of Records.

SUMMARY: The Department of the Air Force proposes to add a system of records to this inventory of record systems subject to the Privacy Act of 1974 (5 U.S.C. 552a), as amended.

DATES: This action will be effective without further notice on May 14, 2001 unless comments are received that would result in a contrary determination.

ADDRESSES: Send comments to the Air Force Access Programs Manager, Headquarters, Air Force Communications and Information Center/ITC, 1250 Air Force Pentagon, Washington, DC 20330-1250.

FOR FURTHER INFORMATION CONTACT: Mrs. Anne Rollins at (703) 588-6187.

SUPPLEMENTARY INFORMATION: The Department of the Air Force notices for systems of records subject to the Privacy Act of 1974 (5 U.S.C. 552a), as amended, have been published in the Federal Register and are available from the address above.

The proposed system report, as required by 5 U.S.C. 552a(r) of the Privacy Act of 1974, as amended, was submitted on April 3, 2001, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 6, 2001.
L.M. Bynum,
Alternate OSD Federal Register Liaison Officer, Department of Defense.

F044 AF SG T

System name:

Suicide Event Surveillance System (SESS).

System location:

Defense Enterprise Computing Center, Defense Information Systems Agency Detachment San Antonio, Building 200, 450 Duncan Drive, San Antonio, TX 78241-5940, on behalf of the Air Force Medical Support Agency (AFMSA/SGMID), 2510 Kennedy Circle, Suite 208, Brooks Air Force Base, TX 78235-5123.

Categories of individuals covered by the system:

Air Force active duty, retired, reserve and guard personnel; Air Force civilians; dependents; and any DoD military or civilian personnel that are treated at an Air Force medical treatment facility.

Categories of records in the system:

Type of suicide event (completed and nonfatal suicide events), event details, psychological, social, behavioral, relationship, economic and other information, including name, Social Security Number, date of birth, gender, race/ethnic group, marital status, rank, military service, military status, job title, duty Air Force specialty code, permanent duty station, the major command of the permanent duty station, temporary duty station (if applicable), use of military helping services.

Authority for maintenance of the system:

10 U.S.C. 55, Medical and Dental Care; 10 U.S.C. 8013, Secretary of the Air Force; 29 CFR part 1960, Occupational Illness/Injury Reporting Guidelines for Federal Agencies; Air Force Instruction 48-105, Surveillance, Prevention, and Control of Diseases and Conditions of Public Health or Military Significance; and E.O. 9397 (SSN).

Purpose(s):

Records from this data system will be used for direct reporting of suicide events and ongoing public health surveillance, which is the systematic collection, analysis, and interpretation of outcome-specific data for use in the planning, implementation, evaluation and prevention within the Air Force. Primary users include authorized Air Force activity/installation mental health personnel, their major command and Air Force counterparts, and Headquarters Air Force Office of Special Investigations (AFOSI), Death Investigations Section personnel. Records are created and revised by mental health and AFOSI personnel in the performance of their duties.

Mental health personnel include military and/or civilian staff assigned to the mental health department of the Air Force medical treatment facility where the medical and/or mental health records are maintained.

Routine uses of records maintained in the system, including categories of users and the purposes of such uses:

In addition to those disclosures generally permitted under 5 U.S.C. 552a(b) of the Privacy Act, these records, or information contained therein, may specifically be disclosed outside the DoD as a routine use pursuant to 5 U.S.C. 552a(b)(3) as follows:

Statistical summary data with no identifiers may be provided to federal, state and local governments for public health surveillance and research.

The DoD “Blanket Routine Uses” published at the beginning of the Air Force's compilation of record system notices apply to this system, except as stipulated in “Note” below.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. This statute takes precedence over the Privacy Act of 1974 in regard to accessibility of such records except to the individual to whom the record pertains. The “Blanket Routine Uses” do not apply to these types of records.

Policies and practices for storing, retrieving, accessing, retaining, and disposing of records in the system:

Storage:

Maintained on computer and computer output products.

Retrievability:

Authorized users retrieve records by case identification number which is Social Security Number, plus year, month, day of event date.

Safeguards:

Records are accessed by custodians of the record system and by person(s) responsible for servicing the record system in performance of their official duties who are properly authorized. When under direct physical control by authorized individuals, records will be electronically stored in computer storage devices protected by computer system software. Computer terminals are located in supervised areas with terminal access controlled by password or other user code systems.

Retention and disposal:

Disposition pending (until NARA disposition is approved, treat as permanent).

System manager(s) and address:

Chief, Force Health Protection and Surveillance Branch, Air Force Institute for Environment, Safety and Occupational Health Risk Analysis, 2513 Kennedy Circle, Brooks Air Force Base, TX 78235-5123.

Notification procedure:

Individuals seeking to determine whether this system or records contains information on themselves should address written inquiries to Chief, Force Health Protection and Surveillance Branch, Air Force Institute for Environment, Safety and Occupational Health Risk Analysis, 2513 Kennedy Circle, Brooks Air Force Base, TX 78235-5123.

Written requests should contain the full name, Social Security Number, and signature of the requester.

Record access procedures:

Individuals seeking to access records about themselves contained in this system should address written requests to the Chief, Force Health Protection and Surveillance Branch, Air Force Institute for Environment, Safety and Occupational Health Risk Analysis, 2513 Kennedy Circle, Brooks Air Force Base, TX 78235-5123.

Written requests should contain the full name, Social Security Number, and signature of the requester.

Contesting record procedures:

The Air Force rules for accessing records, and for contesting contents and appealing initial agency determinations are published in Air Force Instruction 37-132; 32 CFR part 806b; or may be obtained from the system manager.

Record source categories:

Records in this system are obtained from DOD and Air Force employees and compiled using information from personnel, medical, and casualty records, investigative reports, and environmental sampling data.

Exemptions claimed for the system:

None.

[FR Doc. 01-9142 Filed 4-12-01; 8:45 am]

BILLING CODE 5001-10-M